FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans. No. | Acquiring | Acquired | Entities
TRANSACTIONS GRANTED EARLY TERMINATION—09/05/2006
20061262 | GKN plc | Carlyle Strategic Partners, L.P | Stellex Aerostructures, Inc.
20061637 | The Sage Group plc | Emdeon Corporation | Emdeon Practice Services, Inc.
20061640 | Pegasus Partners III International Holdings, L.P | ConocoPhillips | Chevron Phillips Chemical Puerto Rico Core, Inc.
20061641 | Pegasus Partners III International Holdings, L.P | Chevron Corporation | Chevron Phillips Chemical Puerto Rico Core, Inc.
20061644 | Randal D. Boyd | KINO Management, LLC | KINO Holdings, Inc.
20061649 | RMK Acquisition Corporation | ARAMARK Corporation | ARAMARK Corporation.
20061653 | Resources Services Holdings S.a.r.l | Longyear Global Holdings, Inc | Longyear Global Holdings, Inc.
20061655 | Michael J. Gaughan | Boyd Gaming Corporation | Silverado South Strip, LLC.
20061656 | Sumner M. Redstone | Atom Entertainment, Inc | Atom Entertainment, Inc.
20061659 | Eos Capital Partners III, L.P | W. Andrew Wright, III | Addus HealthCare, Inc.
20061662 | Wells Fargo & Company | James B. Freedman | Barrington Associates.
20061663 | Wireless Facilities, Inc | John L. Stallworth | Madison Research Corporation.
20061668 | Mars, Incorporated | MMI Holdings, Inc | MMI Holdings, Inc.
20061679 | 2003 Riverside Capital Appreciation Fund, L.P. | Jeffrey R. Twyman | GreenLine Foods, Inc.
20061680 | Jess Stonestreet Jackson | AIC Capital Partners, LLC | The Legacy Estate Group LLC.
TRANSACTIONS GRANTED EARLY TERMINATION—09/06/2006
20061148 | VeriFone Holdings, Inc. | Lipman Electronic Engineering Ltd | Lipman Electronic Engineering Ltd
TRANSACTIONS GRANTED EARLY TERMINATION—09/07/2006
20061646 | SemGroup, L.P | Energy Spectrum Partners IV LP | Dornick Hills Midstream, Ltd.
20061667 | Newco | Michaels Stores, Inc | Michaels Stores, Inc.
20061678 | Morgan Stanley | Saxon Capital, Inc | Saxon Capital, Inc.
20061687 | General Electric Company | Kinder Morgan, Inc | Administracion y Operacion de Infraestructura, S.A. de D.V.
|  |  | Kinder Morgan Retail Energy Services Company.
|  |  | KM Retail LLC.
|  |  | K N Energy International, Inc.
|  |  | K N Gas Supply Services, Inc.
TRANSACTIONS GRANTED EARLY TERMINATION—09/12/2006
20061620 | Pershing Square, L.P | McDonald's Corporation | McDonald's Corporation.
20061622 | Pershing Square International, Lrd | McDonald's Corporation | McDonald's Corporation.
20061623 | Pershing Square III, L.P. | McDonald's Corporation | McDonald's Corporation.
20061669 | DQE Holdings LLC | Duquesne Light Holdings, Inc | Duquesne Light Holdings, Inc.
20061686 | SCOR S.A | WINSOR Verwaltung-AG | Revios Ruckversicherung AG.
20061691 | infoUSA Inc | Opinion Research Corpration | Opinion Research Corporation.
20061692 | Lone Star Fund V (U.S.) L.P | Lone Star Steakhouse & Saloon, Inc | Lone Star Steakhouse & Saloon, Inc.
20061695 | Transaction Systems Architects, Inc | P&H Solutions Inc | P&H Solutions Inc.
20061696 | J.P. Morgan Chase & Company | Owens Corning. | Owens Corning.
20061698 | Brentwood Associates Private Equity IV, L.P | Thomas M. Rollins | The Teaching Company Limited Partnership.
20061707 | Associated Hospital Holdings, Inc | LifePoint Hospitals, Inc | Lakeland Community Hospital, L.L.C.
|  |  | Lakeland Physician Practices, LLC.
|  |  | MRI Center of Northwest Alabama, LLC.
|  |  | Northwest Medical Center-Winfield, LLC.
|  |  | NWMC-Winfield Physician Practice, LLC.
|  |  | Russellville Hospital, LLC.
|  |  | Russellville Physician Practices, LLC.
20061708 | Automatic Data Processing, Inc | Employease, Inc | Employease, Inc.
20061710 | General Electric Company | John A. Williams and Carolyn S. Wiliams | Invesco Enterprises, Inc.
|  |  | The Memphis Group, Inc.
20061711 | Lone Star Fund V (U.S.), L.P | B-Line, LLC | B-Line, LLC.
20061712 | Gryphon Partners III, L.P | George K. Baum Capital Partners, L.P | Staffing Now, Inc.
20061714 | The Cleveland Clinic Foundation | Tenet Healthcare Corporation | TCC Partners.
20061722 | Energy Capital Partners I, LP | Northeast Utilities | Holyoke Water Power Company.
|  |  | Northeast Generation Company.
|  |  | Northeast Generation Services Company.
|  |  | Northeast Utilities Services Company.
TRANSACTIONS GRANTED EARLY TERMINATION—09/13/2006
20061666 | Littlejohn Fund III, L.P | American Industrial Partners Capital Fund III, L.P | AIP/SMC Holdings, Inc.
20061672 | Kenneth D. Lewis | Bank of America Corporation | Bank of America Corporation.
20061715 | Estate of Peter A. Bordes | Nassau Broadcasting Partners, L.P | Nassau Broadcasting II, LLC.
20061716 | Nassau Broadcasting Partners, L.P | Estate of Peter A. Bordes | Charles River Broadcasting Company.
|  |  | Greater Boston Radio, Inc.
TRANSACTIONS GRANTED EARLY TERMINATION—09/14/2006
20061673 | Wind Point Partners VI, L.P | Ferro Corporation | Ferro Corporation.
20061688 | Mitsubishi Steel Mfg. Co., Ltd | ArvinMeritor, Inc | Meritor Suspension Systems Company.
|  |  | Meritor Suspension Systems Company, U.S.
20061701 | Strength Capital Partners II, L.P | John M. Postle | Postle Distributors, Inc.
20061703 | Wintergames Acquisition LLC | Intrawest Corporation | Intrawest Corporation.
TRANSACTIONS GRANTED EARLY TERMINATION—09/18/2006
20061571 | Madison Dearborn Capital Partners IV, L.P | Syufy Enterprises, LP | Century Theaters, Inc.
20061635 | Trevor Lloyd | The Reynolds and Reynolds Company | The Reynolds and Reynolds Company.
20061639 | Lockheed Martin Corporation | JA&A Holdings LLC | Pacific Architects and Engineers Incorporated.
20061657 | AIF VI Euro Holdings LP | TNT N.V. | TNT Logistics (Australia) Pty Ltd.
|  |  | TNT Logistics Holdings B.V.
|  |  | TNT Transport Group Inc.
20061739 | J.W. Childs Associates, L.P | CGW Southeast Partners IV, L.P | Employbridge Holding Company.
20061751 | Tata Tea Limited | Energy Brands Inc | Energy Brands Inc.
20061757 | HSBC Holdings plc | Solstice Capital Group, Inc | Solstice Capital Group, Inc.
TRANSACTIONS GRANTED EARLY TERMINATION—09/19/2006
20061719 | TPG Partners V, L.P | Aleris International, Inc | Aleris International, Inc.
20061737 | BG Group Plc | Calpine Corporation | Dighton Power Associates Limited Partnership.
20061745 | DST Systems, Inc. | Whitney V. L.P | Amisys Synertech, Inc.
20061756 | Racecar Holdings, LLC | Blackstone UC Capital Partners L.P | Sigecom, LLC.
20061758 | Pinnacle Entertainment, Inc | Carl C. Icahn | ACE Gaming, LLC.
|  |  | AREH MLK LLC.
|  |  | AREP Boardwalk Properties LLC.
|  |  | Mitre Associates LLC.
|  |  | PSW Properties LLC.
TRANSACTIONS GRANTED EARLY TERMINATION—09/20/2006
20061717 | Graham Partners II, LP | Hirschi Nevada Trust | Hirschi Masonry, Inc.
20061753 | PAETEC Corp | US LEC Corp | US LEC Corp.
20061754 | US LEC Corp | PAETEC Corp | PAETEC Corp.
TRANSACTIONS GRANTED EARLY TERMINATION—09/21/2006
20061648 | ComVest Investment Partners II LLC | Zomax Incorporated | Zomax Incorporated.
20061729 | Special Value Opportunities Fund, LLC | Radnor Holdings Corporation | Benchmark Holdings, Inc.
|  |  | Radnor Chemical Corporation.
|  |  | Radnor Holdings Corporation.
|  |  | Radnor Management Delaware, Inc.
|  |  | Radnor Management, Inc.
|  |  | StyroChem Delaware, Inc.
|  |  | StyroChem Europe Delaware, Inc.
|  |  | StyroChem GP, LLC.
|  |  | StyroChem LP, LLC.
|  |  | Styrochem U.S., Ltd.
|  |  | WinCup Europe Delaware, Inc.
|  |  | WinCup GP, LLC.
|  |  | Wincup Holdings, Inc.
|  |  | WinCup LP, LLC.
|  |  | WinCup RE, LLC.
|  |  | WinCup Texas, Ltd.
20061731 | Blue Pearl Mining Ltd | F. Steven and Abigail S. Mooney | Thompson Creek Metals Company.
20061748 | Brown-Forman Corporation | Jose Guillermo Romo de la Pena | Comercializadora Herradura, S.A. de C.V.
|  |  | Fabrica de Tequila Hacienda Las Norias S.A. de C.V.
|  |  | Grupo Industrial Herradura, S.A. de C.V.
|  |  | Sociedad Romo, S.A. de C.V.
|  |  | Tequila Herradura, S.A. de C.V.
|  |  | Transportes de Carga Millenium, S.A. de C.V.
|  |  | Valle de Amatitan, S.A. de C.V.
20061749 | Brown-Forman Corporation | Luis Pedro Pablo Roma de la Pena | Comercializadora Herradura, S.A. de C.V.
|  |  | Fabrica de Tequila Hacienda Las Norias S.A. de C.V.
|  |  | Grupo Industrial Herradura, S.A. de C.V.
|  |  | Sociedad Romo, S.A. de C.V.
|  |  | Tequila Herradura, S.A. de C.V.
|  |  | Transportes de Carga Millenium, S.A. de C.V.
|  |  | Valle de Amatitan, S.A. de C.V.
20061750 | Francisco Partners II, LP | Dover Corporation | Delaware Capital Formation, Inc.
|  |  | Hover-Davis, Inc.
|  |  | Universal Investments Corporation.
|  |  | Vitronics Soltec corporation.
TRANSACTIONS GRANTED EARLY TERMINATION—09/22/2006
20061057 | Alon Israel Oil Company Ltd | Apex Holding Co. | Edgington Oil Company.
20061683 | Casey's General Stores, Inc | David V. Nordstrom | Jet Transport Company.
|  |  | Nordco, L.L.C.
|  |  | Nordstrom Oil Company.
|  |  | Nordy's, L.L.C.
20061709 | PetSmart, Inc | MMI Holdings, Inc | MMI Holdings, Inc.
TRANSACTIONS GRANTED EARLY TERMINATION—09/25/2006
20061702 | Oak Hill Capital Partners II, L.P | Walden's Machine, Inc | Walden's Machine, Inc.
20061759 | Regent Communications, Inc | Sumner Redstone | CBS Radio Stations Inc.
20061777 | WLR Recovery Fund, II, L.P | WLR Recovery Fund III, L.P | Safety Components International, Inc.
|  |  | SCI Merger Sub. Inc.
20061784 | ArcLight Energy Partners Fund III, L.P | Thayer Equity Investors IV, LP | TC Asphalt Corporation.
20061788 | Polski Koncern Naftowy Orlen S.A | Group Menatep LTC | AB Mazeikiu Nafta.
20061791 | Warburg Pincus Private Equity IX L.P | NYFIX, Inc | NYFIX, Inc.
TRANSACTIONS GRANTED EARLY TERMINATION—09/26/2006
20061654 | Morgans Hotel Group Co | Peter A. Morton | Hard Rock Hotel, Inc.
20061697 | 4105818 Canada Inc | Intel Corporation | Intel Corporation.
20061704 | Lindsay Goldberg & Bessemer L.P | Questor Partners Fund II, L.P | CS Bakery Holding, Inc.
20061721 | AlpInvest Partners Direct Investments 2003 cv | Air Products and Chemicals, Inc | Air Products and Chemicals, Inc.
20061725 | Jesse C. Crawford | Tom T. Gores | Broadspire Management Services, Inc.
20061738 | United Technologies Corporation | RHI Holding Corp | RHI Holding Corp.
20061760 | Chesapeake Energy Corporation | Mark A. Fischer and Susan L. Fischer | Chaparral Energy, Inc.
20061764 | Banque Federale des Banques Populaires | Caisse Nationale des Caisses d'Epargne | CEFI.
|  |  | Compagnie 1818.
|  |  | Foncier Assurance.
|  |  | GCE Affacturage.
|  |  | GCE Bail.
|  |  | GCE FS.
|  |  | GCE Garanties.
|  |  | Gestitres.
|  |  | Ixis, CIB; Ixis, AM; Caceis; CIFG.
20061767 | JPMorgan Chase & Co | CCA Stragegies, LLC | CCA Strategies, LLC.
20061768 | Affiliated Computer Services, Inc | Systech Integrators, Inc | Systech Integrators, Inc.
20061769 | Alliance Data Systems Corporation | Kinderhook Capital Fund I, L.P | CPC Associates, Inc.
20061770 | Chesapeake Energy Corporation | Altoma Energy | Chaparral Energy, Inc.
20061772 | Vestar Capital Partners V, L.P | Santemedia Group Holding S.A.R.L | MediMedia USA, Inc.
20061779 | Lindsay Goldberg & Bessemer L.P | Jardine Lloyd Thompson Group plc | Jardine Lloyd Thompson, LLC.
|  |  | JLT Services Corporation.
20061780 | Wolseley plc | Joseph C. White | Castle Supply Company, Inc.
20061782 | Riata Energy, Inc | Carl C. Icahn | NEG Oil & Gas LLC.
20061783 | Carl C. Icahn | Riata Energy, Inc | Riata Energy, Inc.
20061785 | Oak Investment Partners X, L.P | Visto Corporation | Visto Corporation.
20061786 | Cobalt Holding Company | Integraph Corporation | Intergraph Corporation.
20061789 | ArcLight Energy Partners Fund III | General Electric Company | EFS Cogen Holdings II, LLC.
|  |  | TC Cogen One, L.P.
TRANSACTIONS GRANTED EARLY TERMINATION—09/27/2006
20061735 | Glanbia Co-Operative Society Limited | Wayne T. Seltzer | Seltzer Companies, Inc.
20061766 | GTCR Fund VIII, L.P | Bank of America Corporation | BA Merchant Services, LLC.
|  |  | Bank of America, N.A.
|  |  | Best Payment Solutions, Inc.
|  |  | National Processing Co. LLC.
TRANSACTIONS GRANTED EARLY TERMINATION—09/28/2006
20060959 | Toshiba Corporation | Britsh Nuclear Fuels plc | BNFL USA Group, Inc.
|  |  | Westinghouse Electric UK Limited.
20061705 | Emulex Corporation | Sierra Logic, Inc. | Sierra Logic, Inc.
20061793 | Lafarge, S.A. | Lyle C. Sitterly, Jr | Aux Sable Stone Company, L.L.C.
|  |  | Quarry Properties, Inc.
|  |  | The Western Sand & Gravel Company.
|  |  | Utica Dock, Inc.

For Further Information Contact: Sandra M. Peay, Contact Representative or Renee Hallman, Contract Representative, Federal Trade Commission, Premerger Notification Office, Bureau of Competition, Room H-303, Washington, DC 20580, (202) 326-3100.

By direction of the Commission.
Donald S. Clark,
Secretary.

[FR Doc. 06-8572 Filed 10-6-06; 8:45 am]

BILLING CODE 6750-01-M